DEPARTMENT OF HEALTH AND HUMAN SERVICES

Meeting of the Advisory Committee on Minority Health

AGENCY: Office of Minority Health, Office of the Secretary, U.S. Department of Health and Human Services.

ACTION: Notice of meeting.

SUMMARY: As stipulated by the Federal Advisory Committee Act, the U.S. Department of Health and Human Services (HHS) is hereby giving notice that the Advisory Committee on Minority Health (ACMH) will hold a meeting conducted as a webcast on April 30, 2024. This virtual meeting will be open to the public. Registration is required for the public to attend the meeting, provide comment, and/or distribute material(s) to the ACMH members. Instructions regarding participating in the call and providing written or verbal public comments will be provided after meeting registration occurs.

DATES: The ACMH meeting will be held on April 30, 2024 from 11 a.m. to 12:30 p.m. EDT. If the Committee completes its work before 12:30 p.m., the meeting will adjourn early.

Any individual who wishes to participate in the virtual meeting should register using the Zoom registration link provided below by 5 p.m. EDT on April 24, 2024.

ADDRESSES: The meeting will be held virtually and will be accessible by webcast. Instructions regarding webcast access and providing written or verbal public comments will be given after meeting registration occurs.

FOR FURTHER INFORMATION CONTACT: Violet Woo, Designated Federal Officer, Advisory Committee on Minority Health, OMH, HHS, Tower Building, 1101 Wootton Parkway, Suite 100, Rockville, Maryland 20852. Phone: 240-453-6816; email: OMH-ACMH@hhs.gov.

SUPPLEMENTARY INFORMATION: In accordance with Public Law 105-392, the ACMH was established to provide advice to the Deputy Assistant Secretary for Minority Health on the development of goals and program activities related to OMH's duties.

The topics to be discussed during the virtual meeting will be finalizing the recommendations on how OMH and HHS can support community awareness, education and engagement on HHS efforts to implement the revised Office of Management and Budget (OMB) Statistical Policy Directive No. 15: Standards for Maintaining, Collecting, and Presenting Federal Data on Race and Ethnicity (SPD 15). The final recommendations will be given to the Deputy Assistant Secretary for Minority Health to inform efforts related to implementation of the revised OMB standards. Information on OMB's Interagency Technical Working Group on Race and Ethnicity Standards can be found on this website: spd15revision.gov.

Information about the meeting will be posted on the HHS Office of Minority Health (OMH) website: www.minorityhealth.hhs.gov. Information about ACMH activities can be found on the OMH website under the heading About OMH, Committees and Working Groups.

Any individual who wishes to attend the meeting must register via the Zoom registration link, https://www.zoomgov.com/meeting/register/vJIscuuhqzIqHX5wssDFc84ZH-6jdn4NgZg, by 5 p.m. EDT on April 24, 2024. Each registrant should provide their name, affiliation, phone number, email address, if they plan to provide either written or verbal comment, and whether they have requests for special accommodations, including sign language interpretation. After registering, registrants will receive an automated email response with the meeting connection link. The meeting connection link is unique to each registrant and should not be shared.

Members of the public will have an opportunity to provide comments at the meeting. Individuals should indicate during registration whether they intend to provide written or verbal comment. Public comments will be limited to two minutes per speaker during the time allotted. Written statements are limited to two pages. If the two-page limit is exceeded, the full statement will not be included. Registered members of the public who plan to submit and distribute electronic or printed public statements or material(s) related to this meeting's topic should email the material to OMH-ACMH@hhs.gov at least five (5) business days prior to the meeting.

Dated: March 25, 2024.
Violet Woo,
Designated Federal Officer, Advisory Committee on Minority Health.

[FR Doc. 2024-06850 Filed 3-29-24; 8:45 am]

BILLING CODE 4150-29-P